DEPARTMENT OF TRANSPORTATION

Federal Transit Administration

Transit-Oriented Development Planning Pilot Program

AGENCY: Federal Transit Administration (FTA), DOT.

ACTION: Notice of Funding Opportunity (NOFO): Solicitation of Project Proposals for the Pilot Program for Transit-Oriented Development Planning.

SUMMARY: The Federal Transit Administration (FTA) announces the availability of $20.49 million of Fiscal Year (FY) 2014, FY 2015 and FY 2016 funds under the Pilot Program for Transit-Oriented Development (TOD) Planning as authorized under Section 20005(b) of the Moving Ahead for Progress in the 21st Century Act (MAP-21), Public Law 112-141, July 6, 2012, with funding provided under 49 U.S.C. 5338(a)(2)(B), as amended by the Fixing America's Surface Transportation (FAST) Act. The program augments FTA's Fixed Guideway Capital Investment Grants (CIG) Program by supporting comprehensive planning associated with new fixed guideway and core capacity improvement projects.

This notice solicits proposals to compete for FY 2014, FY 2015 and FY 2016 funding under the Pilot Program for TOD Planning and may include additional funds made available under future appropriations. It outlines the process to apply for funding, identifies FTA's priorities for these competitive funds, and establishes the criteria FTA will use to identify meritorious projects for funding. This announcement is available on the FTA Web site at: http://www.fta.dot.gov. FTA may announce final selections on the Web site and in the Federal Register. Additionally, a synopsis of this funding opportunity will be posted in the FIND module of the government-wide electronic grants (GRANTS.GOV) Web site at http://www.grants.gov.

DATES: Complete proposals for Pilot Program for TOD Planning funding must be submitted by 11:59 p.m. EDT June 13, 2016.

ADDRESSES: All proposals must be submitted electronically through the GRANTS.GOV APPLY function. Any agency intending to apply should initiate the process of registering on the GRANTS.GOV site immediately to ensure completion of registration before the submission deadline. Instructions for applying can be found on FTA's Web site at http://www.fta.dot.gov/TODPilot and in the “FIND” module of GRANTS.GOV.

FOR FURTHER INFORMATION CONTACT: For program-specific questions, please contact Benjamin Owen, Office of Planning and Environment, (202) 366-5602, email: Benjamin.Owen@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Other Information

Appendix A: Registration in SAM and GRANTS.GOV

A. Program Description

The Pilot Program for TOD Planning helps support FTA's mission of improving public transportation for America's communities by providing funding to local communities to integrate land use and transportation planning with a transit capital investment that is seeking, or has recently received, funding through the CIG Program. The Pilot Program is not intended to simply support planning that maintains or increases development adjacent to transit. Instead, the Pilot Program is intended to fund comprehensive planning that supports economic development, ridership, multimodal connectivity and accessibility, increased transit access for pedestrian and bicycle traffic, and mixed-use development near transit stations. For projects seeking CIG program funding, this comprehensive planning work will help them develop the information that addresses the CIG Program's evaluation criteria, increasing their competitiveness for funding from the CIG program. For projects that have received CIG construction grants since July 2012 when MAP-21 and this Pilot Program was enacted, this comprehensive planning work will help leverage the Federal investment already made and ensure successful transit corridors. The program also encourages identification of infrastructure needs and engagement with the private sector.

Through this program, FTA intends to fund comprehensive planning work, including for TOD, that would likely otherwise not occur without Federal support. FTA is seeking comprehensive planning projects covering an entire transit capital project corridor, rather than proposals that involve planning for individual station areas or only a small section of the corridor. FTA is also prioritizing applications in corridors with significant challenges related to TOD planning, low levels of existing development, or where the cost of the planning work to overcome the challenges exceeds what might be readily available locally. Lastly, FTA is seeking planning efforts that include strategies to support housing affordability and address residential and commercial displacement that can sometimes occur when transit capital projects are implemented.

This program will support priorities of the U.S. Department of Transportation. It will assist the Department with creating Ladders of Opportunity for all Americans by assisting local project sponsors with planning improved access to employment, health care, education, and housing, and with planning Transit-Oriented Development to revitalize and lift up regions and neighborhoods by attracting new opportunities, jobs and housing. The program will also promote public-private partnerships by requiring private sector participation.

Congress enacted the Pilot Program for TOD Planning to leverage the significant investments in transit projects FTA is making through its CIG Program. Therefore, FTA is requiring that proposed planning activities be associated with a capital transit project pursuing CIG Program funding, including projects currently in the Project Development or Engineering phases of the CIG program, projects that may be seeking entry into the CIG program in the future, and projects that received construction grants from the CIG program since July 2012 when MAP-21 was enacted (see section C, subsection 1 of this notice for more detail on this requirement).

To ensure any proposed planning work reflects the needs and aspirations of the local community and results in concrete, specific deliverables and outcomes, FTA is requiring that transit project sponsors partner with entities with land use planning authority in the transit project corridor to conduct the planning work. FTA will assess the strength of these partnerships in its evaluation of applications.

FTA has been considering the strength of local land use plans and policies in fostering TOD in its evaluation of capital investment grant projects for nearly two decades, over which time the practice of TOD planning and implementation in the United States has advanced significantly. Most local jurisdictions now develop station-area TOD plans in conjunction with the planning for transit capital investments, and several regions have funding tools to encourage TOD. With few exceptions, these advances in TOD practice have been locally funded and FTA's direct involvement has been limited. Thus, the goal of this program is to further TOD planning by addressing barriers to its implementation and ensuring concrete performance outcomes and measures.

B. Federal Award Information

The FAST Act authorizes FTA to make grants for eligible projects under the Pilot Program for TOD Planning on a competitive basis subject to the terms and conditions as authorized under Section 20005(b) of the Moving Ahead for Progress in the 21st Century Act (MAP-21), Public Law 112-141, July 6, 2012, with funding provided under 49 U.S.C. 5338(a)(2)(B), as amended by the Fixing America's Surface Transportation (FAST) Act. The $20.49 million available consists of $0.49 million from the Consolidated Appropriations Act, 2014, $10 million from the Consolidated and Further Continuing Appropriations Act, 2015, and $10 million from the Consolidated Appropriations Act, 2016. FTA intends to award all three years' funding to selected applicants responding to this NOFO and may include additional funds made available under future appropriations.

FTA intends to fund as many meritorious TOD planning efforts as possible. Only proposals from eligible recipients for eligible activities will be considered for funding. FTA anticipates minimum grant awards of $250,000 and maximum grant awards of $2,000,000. The maximum period of performance allowed for the work covered by the award is 24 months.

C. Eligibility Information

1. Eligible Transit Projects

Any comprehensive planning work proposed for funding under the Pilot Program for TOD Planning must be associated with an eligible transit capital project. To be eligible, the proposed transit capital project must be a New Starts, Core Capacity or fixed-guideway Small Starts project as defined under the CIG Program (e.g., in Section 5309(a) of title 49, United States Code), and be:

i. Expected to enter New Starts, Small Starts or Core Capacity Project Development in the future;

ii. In the Project Development or Engineering phase of the New Starts or Core Capacity process, or in the Project Development phase of the Small Starts process by the date the application to the Pilot Program for TOD Planning is submitted; or

iii. A project that received a construction grant through the CIG Program since July 2012 when the Pilot Program was enacted in MAP-21.

Based on this definition of an eligible transit project, the following types of transit projects are ineligible:

i. A proposed fixed guideway transit project that does not intend to seek CIG funding in the future, is not currently a CIG project in the Project Development or Engineering phase of the program, or that received a construction grant award from the CIG program prior to July 2012;

ii. Any proposed transit project that was awarded TOD Pilot Program funding in 2015; and

iii. Small Starts corridor-based bus rapid transit projects that do not meet the definition of a fixed-guideway project per Section 5309(a) of title 49, United States Code.

2. Eligible Applicants

Eligible applicants under this program must be FTA grantees (i.e., existing direct and designated recipients) as of the publication date of this NOFO. An applicant must either be the project sponsor of an eligible transit capital project as defined in the previous subsection or an entity with land use planning authority in an eligible transit capital project corridor. Except in cases where an applicant is both the sponsor of an eligible transit project and has land use authority in at least a portion of the transit project corridor, the application for Pilot Program for TOD Planning funds must include sufficient evidence of a partnership between the transit project sponsor and at least one entity in the project corridor with land use planning authority. Sufficient evidence may include a memorandum of agreement or letter of intent signed by all parties that describes the parties' roles and responsibilities in the proposed comprehensive planning project. Only one application per transit capital project corridor may be submitted to FTA. Multiple applications submitted for a single transit capital project corridor indicate to FTA that partnerships are not in place and FTA will reject all of the applications.

3. Eligible Activities

Applications for funding under the Pilot Program for TOD Planning must describe how the planning work proposed addresses all six aspects of the general authority stipulated in Section 20005(b)(2) of MAP-21:

i. Enhances economic development, ridership, and other goals established during the project development and engineering processes;

ii. facilitates multimodal connectivity and accessibility;

iii. increases access to transit hubs for pedestrian and bicycle traffic;

iv. enables mixed-use development;

v. identifies infrastructure needs associated with the eligible project; and

vi. includes private sector participation.

Applications should describe the anticipated final deliverables that will result from the planning work. Examples of final deliverables may include, but are not restricted to, the following:

i. A comprehensive plan report that includes corridor development policies and station development plans, a proposed timeline, and recommended financing strategies for these plans, which may include use of Federal loan programs such as USDOT's Transportation Infrastructure Finance and Innovation Act (TIFIA) and Railroad Rehabilitation Improvement and Financing (RRIF) programs;

ii. A strategic plan report that includes corridor specific planning strategies and program recommendations to support comprehensive planning;

iii. Revised TOD-focused zoning codes and/or resolutions;

iv. A report evaluating and recommending tools to encourage TOD implementation such as land banking, value capture, and development financing;

v. An analysis of the effects of gentrification due to transit capital project implementation and recommendations to promote inclusive communities and reduce residential and commercial displacement;

vi. An analysis of efforts to connect people to opportunities by promoting multimodal access to transit stations and by improving connectivity of disadvantaged populations to essential services;

vii. Policies to encourage TOD; and/or

viii. Local or regional resolutions to implement TOD plans and/or establish TOD funding mechanisms.

4. Ineligible Activities

Applications should not include the following activities, which include activities that are targeted to only a single location rather than the comprehensive corridor-focused TOD planning study desired by FTA:

i. TOD planning work in a single transit capital project station area;

ii. Transit project development activities that would be reimbursable through the CIG Program under a construction grant agreement, such as project planning, the design and engineering of stations and other facilities, environmental analyses needed for the transit capital project, or costs associated with specific joint development activities;

iii. Capital projects, such as land acquisition, construction, and utility relocation; and

iv. Site- or parcel-specific planning, such as the design of individual structures.

5. Cost Sharing or Matching

The maximum Federal funding share is 80 percent.

6. Eligible Sources of Match

The application must describe the cost of the planning effort proposed and identify the funding sources necessary to complete the work, including the amount of Pilot Program for TOD Planning funds being requested. The applicant must describe each source of the local match and identify whether the funds from each source are committed or planned. For funds identified as committed, the application must include documentation of the funding commitments such as a letter, resolution, adopted budget, etc.

Eligible sources of local match include the following: Cash from non-Government sources other than revenues from providing public transportation services; revenues derived from the sale of advertising and concessions; amounts received under a service agreement with a State or local social service agency or private social service organization; revenues generated from value capture financing mechanisms; or funds from an undistributed cash surplus; replacement or depreciation cash fund or reserve; or new capital. In-kind contributions are permitted. Transportation Development Credits (formerly referred to as Toll Revenue Credits) may not be used to satisfy the local match requirement.

D. Application and Submission Information

1. Address

Project proposals must be submitted electronically through http://www.GRANTS.GOV by 11:59 p.m. June 13, 2016. Mail and fax submissions will not be accepted.

2. Content and Form of Application Submission

Proposals should include only a completed SF 424 Mandatory form (downloaded from GRANTS.GOV) and the following attachments to the completed SF 424:

i. A completed Applicant and Proposal Profile supplemental form for the Pilot Program for Transit-Oriented Development Planning (supplemental form) found on the FTA Web site at http://www.fta.dot.gov/TODPilot. The supplemental form provides a consistent format for proposers to respond to the criteria outlined in this NOFO and takes the place of a free-form written application. Supplemental forms for other FTA funding programs will not be accepted;

ii. A map of the proposed study area showing the transit project alignment and stations, major roadways, major landmarks, and the geographic boundaries of the proposed comprehensive planning activities;

iii. Documentation of a partnership between the transit project sponsor and an entity in the project corridor with land use planning authority to conduct the planning work, if the applicant does not have both of these responsibilities; and

iv. Documentation of any funding commitments for the proposed planning work.

The supplemental form as described above must be completed and validated using the “Validate Form” button. The supplemental form prompts applicants for all required information about the proposed planning work (listed below), includes fields for responses and takes the place of a free-form written application. In the event of errors, FTA recommends saving the form on your computer and ensuring that JavaScript is enabled in your PDF reader;

The supplemental form will prompt applicants to address the following items:

1. Identify the project title and project scope to be funded, including anticipated final deliverables.

2. Identify an eligible transit project that meets the requirements of section C, subsection 1 of this notice.

3. Provide evidence of a partnership between the transit project sponsor and at least one agency with land use authority in the transit capital project corridor, per section C, subsection 2 of this notice.

4. Address the six aspects of general authority under MAP-21 Section 20005(b)(2).

5. Address each evaluation criterion separately, demonstrating how the project responds to each criterion as described in section E.

6. Provide a line-item budget for the total planning effort, with enough detail to indicate the various key components of the project.

7. Identify the Federal amount requested.

8. Document the matching funds, including amount and source of the match (may include local or private sector financial participation in the project). Describe whether the matching funds are committed or planned, and include documentation of the commitments.

9. Address whether other Federal funds have been sought or received for the project.

10. Provide a project time-line, including significant milestones such as the dates anticipated to incorporate the planning work effort into the region's unified planning work program, and to complete all of the proposed planning work within the maximum period of performance.

11. Describe how the planning work advances goals of the region's metropolitan transportation plan.

12. Propose performance criteria for the implementation of the planning work.

13. Identify possible impediments to the planning work and its implementation, and how the work will address them.

14. For projects expected to enter New Starts, Small Starts or Core Capacity Project Development in the future, applications must demonstrate the seriousness of the transit capital project by indicating whether:

i. It has been included in a local plan (e.g., a local master plan, comprehensive plan, land use plan or transportation plan);

ii. It has been included in a regional plan (e.g., a regional land use plan or transportation plan);

iii. It has been included in a statewide transportation plan or transit plan;

iv. A feasibility study has been undertaken;

v. NEPA process is underway;

vi. The locally preferred alternative has been selected:

vii. Community and/or stakeholder engagement has started;

viii. Discussions with the FTA Regional Office have taken place;

For each of the above indicate yes or no, and attach a link to any applicable documents or Web sites. Do not attach the documentation.

FTA will not consider any additional materials submitted by applicants in its evaluation of proposals. The total length of the completed supplemental form and documentation of partnerships and funding commitments should be no more than 15 pages.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Any addenda that FTA releases on the application process will be posted at http://www.fta.dot.gov/TODPilot. Important: FTA urges proposers to submit their applications at least 72 hours prior to the due date to allow time to receive the validation messages and to correct any problems that may have caused a rejection notification. FTA will not accept submissions after the stated submission deadline. GRANTS.GOV scheduled maintenance and outage times are announced on the GRANTS.GOV Web site at http://www.GRANTS.GOV. Deadlines will not be extended due to scheduled maintenance or outages.

Proposers are encouraged to begin registration process on the GRANTS.GOV site well in advance of the submission deadline. Registration is a multi-step process, which may take several weeks to complete before an application can be submitted. Registered proposers may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

Information such as proposer name, Federal amount requested, local match amount, description of areas served, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent. The information listed in sections D of this NOFO MUST be included on the SF 424 and supplemental forms for all requests for Pilot Program for TOD Planning funding.

3. Applicant Information

i. Name of the lead applicant and, if applicable, the specific co-sponsors submitting the application.

ii. Dun and Bradstreet (D&B) Data Universal Numbering System (DUNS) number.

iii. Contact information including: Contact name, title, address, congressional district, fax and phone number, and email address if available.

iv. Name of person(s) authorized to apply on behalf of the system (attach a signed transmittal letter) must accompany the proposal.

E. Application Review Information

1. Criteria

FTA will evaluate proposals that include all components identified in section D of this notice according to the following three criteria:

a. Demonstrated Need

FTA will evaluate each project to determine the need for funding based on the following factors:

i. Barriers to TOD in the corridor and how the proposed work will overcome them;

ii. How the proposed work will advance TOD implementation in the corridor and region;

iii. Justification as to why Federal funds are needed for the proposed work; and

iv. Extent to which the transit project corridor could benefit from TOD planning.

b. Strength of the Work Plan, Schedule and Process

FTA will evaluate the strength of the work plan, schedule and process included in an application based on the following factors:

i. Extent to which the schedule contains sufficient detail, identifies all steps needed to implement to work proposed, and is achievable;

ii. The proportion of the project corridor covered by the work plan;

iii. Extent of partnerships, including with non-public sector entities;

iv. The partnerships' technical capability to develop, adopt and implement the plans, based on FTA's assessment of the applicant's description of the policy formation, implementation, and financial roles of the partners, and the roles and responsibilities of proposed staff;

v. Whether the performance measures identified in the application relate to the goals of the planning work;

vi. The extent to which the application demonstrates efforts to address gentrification and displacement;

vii. The extent to which the application demonstrates a commitment to connecting communities, particularly connecting disadvantaged populations to essential services, and to revitalizing economically distressed areas;

viii. Whether the proposed work will examine innovative financial tools such as value capture; and

ix. Whether the application demonstrates leveraging other Federal grants that would support the proposed work plan.

c. Funding Commitments

FTA will assess the status of local matching funds for the planning work. Applications demonstrating that matching funds for the proposed planning work are committed will receive higher ratings from FTA on this factor. Proposed planning projects for which matching funding sources have been identified, but are not yet committed, will be given lower ratings under this factor by FTA, as will proposed projects for which in-kind contributions constitute the primary or sole source of matching funds.

2. Review and Selection Process

A technical evaluation committee consisting of FTA staff will perform a primarily qualitative evaluation according to the criteria described above. FTA will assign greatest emphasis to the Demonstrated Need and Strength of the Work Plan, Schedule and Process criteria. Each complete, eligible application will receive a rating of Highly Recommended, Recommended or Not Recommended depending on its performance against the criteria. Applications that are complete but not eligible will not be rated. FTA may seek clarification from any applicant about any statement in its application that FTA finds ambiguous, and/or to request additional documentation to be considered during the evaluation process to clarify information contained within the application.

After a thorough evaluation of all eligible proposals, the technical evaluation committee will provide selection recommendations to the FTA Administrator. The FTA Administrator will determine the final list of project selections, and the amount of funding for each project. Geographic diversity, diversity of community size, and the applicant's receipt of other FTA competitive funding may be considered in FTA's award decisions. FTA expects to announce the selected projects and notify successful proposers during fall 2016.

F. Federal Award Administration Information

1. Federal Award Notices

Funds under this NOFO cannot be used to reimburse applicants for otherwise eligible expenses incurred prior to FTA award of a grant until FTA has issued pre-award authority for selected projects through a notification in the Federal Register, or unless FTA has issued a “Letter of No Prejudice” for the project before the expenses are incurred.

Local funds must be committed and grants awarded within eight months of funding announcements.

2. Administrative and National Policy Requirements

i. Grant Requirements

If selected, awardees will apply for a grant through FTA's electronic grants management system and adhere to the customary FTA grant requirements of the Section 5303 Metropolitan Planning program, including those of FTA Circular 8100.1C and Circular 5010.1D. All competitive grants, regardless of award amount, will be subject to the Congressional Notification and release process. Technical assistance regarding these requirements is available from each FTA regional office.

ii. Planning

FTA encourages proposers to notify the appropriate metropolitan planning organizations in areas likely to be served by the funds made available under this program. Selected projects must be incorporated into the unified planning work programs of metropolitan areas before they are eligible for FTA funding.

iii. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include submission of Federal Financial Reports and Milestone Progress Reports in FTA's electronic grants management system on a quarterly basis. Awardees must also submit copies of the deliverables identified in the work plan to the FTA regional office at the corresponding milestones.

G. Federal Awarding Agency Contact

For program-specific questions, please contact Benjamin Owen, Office of Planning and Environment, (202) 366-5602, email: Benjamin.Owen@dot.gov. A TDD is available at 1-800-877-8339 (TDD/FIRS).

H. Other Information

This program is not subject to Executive Order 12372, “Intergovernmental Review of Federal Programs.” FTA will consider applications for funding only from eligible recipients for eligible projects listed in Section C.

Complete applications must be submitted through GRANTS.GOV by 11:59 p.m. EDT June 13, 2016. Contact information for FTA's regional offices can be found on FTA's Web site at www.fta.dot.gov.

As a result of amendments in the FAST Act, transit-oriented development projects may receive loans through the USDOT Transportation Infrastructure Finance and Innovation Act (TIFIA) program. Further information about this program was published in the Federal Register on March 11, 2016 and is available at https://www.gpo.gov/fdsys/pkg/FR-2016-03-11/pdf/2016-05640.pdf.

Matthew J. Welbes,
Executive Director.

Appendix A

Registration in SAM and Grants.Gov

Registration in Brief

Registration takes approximately 3-5 business days, but allow 4 weeks for completion of all steps.

STEP 1: Obtain DUNS Number

Same day. If requested by phone (1-866-705-5711) DUNS is provided immediately. If your organization does not have one, you will need to go to the Dun & Bradstreet Web site at http://fedgov.dnb.com/webform [EXIT Disclaimer] to obtain the number. *Information for Foreign Registrants.*Webform requests take 1-2 business days.

STEP 2: Register with SAM

Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: TRACK AOR STATUS

At any time, you can track your AOR status by logging in with your username and password. Login as an Applicant (enter your username & password you obtained in Step 3) using the following link: applicant_profile.jsp.

[FR Doc. 2016-08538 Filed 4-13-16; 8:45 am]

BILLING CODE P